DEPARTMENT OF EDUCATION

Statewide Longitudinal Data Systems; Reopening Fiscal Year (FY) 2012 Competition

AGENCY: Institute of Education Sciences (IES), Department of Education.

ACTION: Notice reopening the Statewide Longitudinal Data Systems fiscal year (FY) 2012 competition.

Catalog of Federal Domestic Assistance (CFDA) Number: 84.372A

SUMMARY: On September 20, 2011, we published in the Federal Register (76 FR 58252) a notice inviting applications for the Statewide Longitudinal Data Systems FY 2012 competition. That notice established a December 15, 2012, deadline date for eligible applicants to apply for funding under this program. As a result of the notice published on September 20, 2011, 31 eligible entities submitted applications.

In order to ensure fairness and afford as many eligible applicants as possible an opportunity to be considered for funding under this program, we are reopening the Statewide Longitudinal Data Systems FY 2012 competition to eligible applicants that were not able to submit applications by the original deadline date. Thus, we will consider as received timely, all of the applications we received through Grants.gov by December 15, 2011 (referred to as “previously submitted applications” in this notice), and will consider as timely any additional applications or revisions to any previously submitted application submitted by the new deadline date established in this notice. All information in the September 20, 2011 notice remains the same for new applications and revisions to previously submitted applications submitted in response to this reopening notice, except for the following updates to the Dates section and section V. Submission of Applications.

DATES: Applications Available: January 6, 2012.

Note: The application package for this competition and instructions are available at the following Internet address: http://ies.ed.gov/funding/slds.asp Deadline for Transmittal of Applications: January 13, 2012.

V. Submission of New Applications or Revisions to Previously Submitted Applications

New applications or revisions to previously submitted applications for grants under this program must be submitted in paper format by mail or hand delivery.

a. Submission of Paper Applications by Mail

If you submit your new application or revisions to a previously submitted application by mail (through the U.S. Postal Service or a commercial carrier), you must mail the original and two copies of your new application or revisions to a previously submitted application, on or before the application deadline date, to the Department at the following address: U.S. Department of Education, Application Control Center, Attention: (CFDA Number: 84.372A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your new application or revisions to a previously submitted application through the U.S. Postal Service, we do not accept either of the following as proof of mailing:

(1) A private metered postmark.

(2) A mail receipt that is not dated by the U.S. Postal Service.

If your new application or revisions to a previously submitted application is postmarked after the application deadline date, we will not consider your new application or revisions to a previously submitted application.

Note: The U.S. Postal Service does not uniformly provide a dated postmark. Before relying on this method, you should check with your local post office.

c. Submission of Paper Applications by Hand Delivery

If you submit your new application or revisions to a previously submitted application by hand delivery, you (or a courier service) must deliver the original and two copies of your new application or revisions to a previously submitted application by hand, on or before the application deadline date, to the Department at the following address:

U.S. Department of Education, Application Control Center, Attention: (CFDA Number: 84.372A), 550 12th Street SW., Room 7041, Potomac Center Plaza, Washington, DC 20202-4260. The Application Control Center accepts hand deliveries daily between 8 a.m. and 4:30 p.m., Washington, DC time, except Saturdays, Sundays, and Federal holidays.

Note for Mail or Hand Delivery of Paper Applications: If you mail or hand deliver your new application or revisions to a previously submitted application to the Department—

(1) You must indicate on the envelope—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

FOR FURTHER INFORMATION CONTACT: Emily Anthony, U.S. Department of Education, National Center for Education Statistics, 1990 K Street NW., room 9083, Washington, DC 20006-5651. Telephone: (202) 502-7495 or via Internet: Emily.Anthony@ed.gov.

If you use a telecommunications device for the deaf (TDD), call the Federal Relay Service (FRS), toll-free, at 1-(800) 877-8339. Individuals with disabilities may obtain this notice in an accessible format (e.g., braille, large print, audiotape, or computer diskette) on request to the contact person listed in this section.

Electronic Access to This Document: The official version of this document is the document published in the Federal Register. Free Internet access to the official edition of the Federal Register is available via the Federal Digital System at http://www.gpo.gov/fdsys. At this site you can view this document, as well as all other documents of this Department published in the Federal Register, in text or Adobe Portable Document Format (PDF). To use PDF you must have Adobe Acrobat Reader, which is available free at this site.

You may also access documents of the Department published in the Federal Register by using the article search feature at http://www.federalregister.gov. Specifically, through the advanced search feature at this site, you can limit your search to documents published by the Department.

Program Authority: 20 U.S.C. 9607.

Dated: January 3, 2012.
John Q. Easton,
Director, Institute of Education Sciences.

[FR Doc. 2012-76 Filed 1-5-12; 8:45 am]

BILLING CODE 4000-01-P